DEPARTMENT OF HEALTH AND HUMAN SERVICES

National Institutes of Health

Submission for OMB Review; 30-Day Comment Request; The Study of the Center for Global Health's (CGH) Workshops (NCI)

SUMMARY: Under the provisions of Section 3507(a)(1)(D) of the Paperwork Reduction Act of 1995, the National Institutes of Health (NIH), has submitted to the Office of Management and Budget (OMB) a request for review and approval of the information collection listed below. This proposed information collection was previously published in the Federal Register on May 8, 2014, Vol. 79, page 26437 and allowed 60-days for public comment. One public comment was received on May 12, 2014. The purpose of this notice is to allow an additional 30 days for public comment. The National Cancer Institute (NCI), National Institutes of Health, may not conduct or sponsor, and the respondent is not required to respond to, an information collection that has been extended, revised, or implemented on or after October 1, 1995, unless it displays a currently valid OMB control number.

Direct Comments to OMB: Written comments and/or suggestions regarding the item(s) contained in this notice, especially regarding the estimated public burden and associated response time, should be directed to the: Office of Management and Budget, Office of Regulatory Affairs, OIRA_submission@omb.eop.gov or by fax to 202-395-6974, Attention: NIH Desk Officer.

Comment Due Date: Comments regarding this information collection are best assured of having their full effect if received within 30 days of the date of this publication.

FOR FURTHER INFORMATION CONTACT: To obtain a copy of the data collection plans and instruments, or request more information on the proposed project, contact: Sudha Sivaram, Program Director, Center for Global Health, National Cancer Institute, 9609 Medical Center Dr., RM 3W528, Rockville MD, 20850 or call non-toll-free number 240-276-5804 or Email your request, including your address to: sudha.sivaram@nih.gov. Formal requests for additional plans and instruments must be requested in writing.

Proposed Collection: The Study of the Center for Global Health's (CGH) Workshops (NCI), 0925—NEW, National Cancer Institute (NCI), National Institutes of Health (NIH).

Need and Use of Information Collection: This submission is a request for OMB to approve The Study of the Center for Global Health's (CGH) Workshops for three years. This information collection is to collect stakeholder feedback from past workshops and future workshops, to assess the effectiveness of CGH workshops, which seek to assess the abilities of other countries to implement national cancer control programs, inform content and improve delivery of future workshops, and to systematically assess CGH's contribution. The workshops to be studied are the Symposiums on Global Cancer Research, Workshops in Cancer Control Planning and Implementation, the Summer Curriculum in Cancer Prevention, Women's Cancer Program Summit, and Regional Grant Writing and Peer Review Workshops. While these workshops differ in content and delivery style, their underlying goals are the same; they intend to initiate and enhance cancer control efforts, increase capacity for cancer research, foster new partnerships, and create research and cancer control networks. The proposed study requests information about the outcomes of each of these workshops including (1) new cancer research partnerships and networks (2) cancer control partnerships and networks, (3) effects on cancer research, and (4) effect on cancer control planning and implementation efforts. Information will be collected in two phases where Phase 1 will collect information from attendees of past workshops (1998-2015) and phase two will collect information from attendees of future workshops over the next three years. This information will allow CGH to assess the effectiveness of its workshops in order to inform future programming and funding decisions. The surveys will enable CGH to better understand the impact the workshops have had on their partnerships and networks, research, and cancer control planning and implementation efforts.

OMB approval is requested for 3 years. There are no costs to respondents other than their time. The total estimated annualized burden hours are 805.

Estimated Annualized Burden Hours
Type of respondents | Form name | Number of respondents per year | Number of responses per respondent | Average burden per response (in hours) | Total annual burden hours
Chief Executives, Medical Scientists, Health Educators, Family/General Practitioners, Registered Nurses, Medical and Health Services Managers | Phase 1: Symposium on Global Cancer Research | 500 | 1 | 20/60 | 167
| Phase 2: Symposium on Global Cancer Research | 250 | 1 | 20/60 | 83
| Phase 1: Workshop in Cancer Control Planning and Implementation for non-Ministry of Health participants | 70 | 1 | 20/60 | 23
| Phase 2: Workshop in Cancer Control Planning and Implementation for non-Ministry of Health participants | 70 | 1 | 20/60 | 23
| Phase 1: Workshop in Cancer Control Planning and Implementation for Ministry of Health | 70 | 1 | 20/60 | 23
| Phase 2: Workshop in Cancer Control Planning and Implementation for Ministry of Health | 70 | 1 | 20/60 | 23
| Phase 1: Summer Curriculum in Cancer Prevention | 500 | 1 | 30/60 | 250
| Phase 2: Summer Curriculum in Cancer Prevention | 27 | 1 | 30/60 | 14
| Phase 1: Women's Cancer Program Summit | 140 | 1 | 20/60 | 47
| Phase 2: Women's Cancer Program Summit | 140 | 1 | 20/60 | 47
| Phase 1: Regional Grant Writing and Peer Review Workshop | 150 | 1 | 30/60 | 75
| Phase 2: Regional Grant Writing and Peer Review Workshop | 60 | 1 | 30/60 | 30

Dated: April 27, 2015.
Karla Bailey,
NCI Project Clearance Liaison, National Institutes of Health.

[FR Doc. 2015-10394 Filed 5-4-15; 8:45 am]

BILLING CODE 4140-01-P